DEPARTMENT OF COMMERCE

National Oceanic and Atmospheric Administration

RIN 0648-XD838

Fisheries of the South Atlantic; South Atlantic Fishery Management Council; Public Meetings

AGENCY: National Marine Fisheries Service (NMFS), National Oceanic and Atmospheric Administration (NOAA), Commerce.

ACTION: Notice of public meetings.

SUMMARY: The South Atlantic Fishery Management Council (SAFMC) will hold a meeting of its Scientific and Statistical Committee (SSC) and the SSC Socio-Economic Panel. See SUPPLEMENTARY INFORMATION.

DATES: The SSC Socio-Economic Panel will meet from 8 a.m. until 12 noon on Tuesday, April 28, 2015. The SSC will meet from 1:30 p.m. to 5:30 p.m., Tuesday, April 28, 2015; from 8:30 a.m. to 5:30 p.m., Wednesday, April 29, 2015; and from 8:30 a.m. to 3 p.m., Thursday, April 30, 2015.

ADDRESSES: The meeting will be held at the Crowne Plaza Airport Hotel, 4831 Tanger Outlet Boulevard, North Charleston, SC 29418; telephone: (800) 503-5762 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The following items will be discussed and considered by the SSC Socio-Economic Panel and the SSC during this meeting:

SSC Socio-Economic Panel Meeting—Tuesday, April 28, 2015, 8 a.m. Until 12 Noon

1. Regulatory Amendment 16 to the Snapper Grouper Fishery Management Plan (FMP) addressing modifications to the current seasonal closure and gear modifications for the black sea bass pot fishery

2. Regulatory Amendment 23 to the Snapper Grouper FMP addressing management measures for the commercial golden tilefish fishery

3. The SAFMC System Management Plan for Marine Protected Areas

4. The SAFMC Vision Blueprint outlining a long-term plan for the snapper grouper fishery

5. An update/overview of recent and developing SAFMC actions

6. Administrative issues including term limits for SEP members and upcoming SEP meetings

SSC Meeting—Tuesday, April 28—Thursday, April 30, 2015

1. Report from the SSC Socio-Economic Panel

2. Marine Recreational Information Program (MRIP) calibration and transition efforts

3. 2014 South Atlantic landings and Annual Catch Limits (ACLs)

4. Spiny lobster review panel recommendations

5. Southeast Reef Fish Survey update

6. Geographic range of the Southeast Data, Assessment and Review (SEDAR) 32 blueline tilefish assessment

7. SEDAR projects update, and recommendations addressing the SEDAR 41 schedule (South Atlantic red snapper and gray triggerfish), red grouper Terms of Reference (TORs), and black grouper approach.

8. Southeast Fisheries Science Center (SEFSC) headboat data evaluation efforts and assessment program review

9. Review assessment of mutton snapper and provide fishing level recommendations

10. Right whale monitoring and biological opinion approach

11. Regulatory Amendment 16 to the Snapper Grouper FMP

12. Amendment 36 to the Snapper Grouper FMP addressing Spawning Special Management Zones

13. National Marine Fisheries Service stock status determination process

14. Revised hogfish stock projections

15. Use of stock triggers or rumble strips

16. Draft report of the SSC Acceptable Biological Catch Control Rule Workshop of October 2014

17. 2015 National SSC Workshop

18. National Standards revisions

19. SAFMC Visioning Project and Blueprint

20. Oculina Team Evaluation Report

21. SAFMC annual research and monitoring plan

22. Updates and progress reports on other ongoing FMPs and amendments.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m. Tuesday, April 21, 2015. Two opportunities for comment on agenda items will be provided during SSC meetings and noted on the agenda. The first will be at the beginning of the meeting, and the second near the conclusion, when the SSC reviews its recommendations.

Special Accommodations

The meetings are accessible to people with disabilities. Requests for auxiliary aids should be directed to the SAFMC office (see ADDRESSES) at least 10 business days prior to the meeting.

Note: The times and sequence specified in this agenda are subject to change.

Authority: 16 U.S.C. 1801 et seq.

Dated: April 7, 2015.
Tracey L. Thompson,
Acting Deputy Director, Office of Sustainable Fisheries, National Marine Fisheries Service.

[FR Doc. 2015-08267 Filed 4-9-15; 8:45 am]

BILLING CODE 3510-22-P